DEPARTMENT OF AGRICULTURE

Minority Farmer Advisory Committee; Re-Establishment of Charter

AGENCY: Office of Advocacy and Outreach, USDA.

ACTION: Notice of re-establishment.

SUMMARY: We are giving notice that the Secretary of Agriculture intends to re-establish the charter of the Advisory Committee on Minority Farmers (the “Committee”) for a 2-year term.

FOR FURTHER INFORMATION CONTACT: Mrs. Kenya Nicholas, Designated Federal Official, USDA Office of Advocacy and Outreach, 1400 Independence Avenue SW., Room 520-A, Washington, DC 20250-0170; Telephone (202) 720-6350; Fax (202) 720-7136; Email: kenya.nicholas@osec.usda.gov.

ADDRESSES: Inquiries may be sent to: Mrs. Kenya Nicholas, Designated Federal Official, USDA Office of Advocacy and Outreach, 1400 Independence Avenue SW., Room 520-A, Washington, DC 20250-0170.

SUPPLEMENTARY INFORMATION: Pursuant to the Federal Advisory Committee Act (FACA, 5 U.S.C. App.), notice is hereby given that the Secretary of Agriculture intends to re-establish the Advisory Committee on Minority Farmers for 2 years. A call for nominations was previously announced and has closed. Those applicants will be revetted and will be appointed for 2-year terms immediately following charter renewal.

This Committee will advise the Secretary of Agriculture on matters particularly affecting: Minority farmers and ranchers participating in and equal access to USDA programs and services; the implementation of the Outreach and Assistance for Socially Disadvantaged and Veteran Farmers and Ranchers (OASDVFR) also known as the “2501 Program”; and civil rights activities within the Department as these activities relate to the participants of the OASDVFR Program. The Committee will consider recommendations proffered from the previous committee members in 2012 and suggest means of implementation.

The Secretary will appoint 15 members from among applicants vetted in order to obtain the broadest possible representation on the Committee, pursuant to Section 5 of the Agricultural Credit Improvement Act of 1992 (Pub. L. 102-554), in accordance with the FACA and U.S. Department of Agriculture (USDA) Regulation 1041-1. Equal opportunity practices, in line with the USDA policies, will be followed in all appointments to the Committee. To ensure that the recommendations of the Committee have taken into account the needs of the diverse groups served by the Department, membership should include, to the extent practicable, individuals with demonstrated ability to represent minorities, women, and persons with disabilities.

Signed in Washington, DC, this 24th day of October, 2014.
Carolyn C. Parker,
Director, Office of Advocacy and Outreach.

[FR Doc. 2014-26102 Filed 11-3-14; 8:45 am]

BILLING CODE P